SMALL BUSINESS ADMINISTRATION

[Declaration of Economic Injury Disaster #9R53]

State of South Dakota

Lawrence County and the contiguous Counties of Butte, Meade and Pennington in the State of South Dakota; and Crook and Weston Counties in the State of Wyoming constitute an economic injury disaster loan area as a result of a forest fire that caused the evacuation of two communities in Lawrence County June 29 through July 4, 2002. Eligible small businesses and small agricultural cooperatives without credit available elsewhere may file applications for economic injury assistance as a result of this disaster until the close of business on June 17, 2003 at the address listed below or other locally announced locations:

Small Business Administration, Disaster Area 3 Office, 4400 Amon Carter Blvd., Suite 102, FT. Worth, TX 76155.

The interest rate for eligible small businesses and small agricultural cooperatives is 3.5 percent.

The number assigned for economic injury for this disaster is 9R5300 for the State of South Dakota and 9R5400 for the State of Wyoming.

(Catalog of Federal Domestic Assistance Program No. 59002)
Dated: September 17, 2002.
Hector V. Barreto,
Administrator.

[FR Doc. 02-24140 Filed 9-20-02; 8:45 am]

BILLING CODE 8025-01-P